DEPARTMENT OF THE INTERIOR

National Park Service

[NPS-WASO-NRNHL-12703; PPWOCRADI0, PCU00RP14.R50000]

National Register of Historic Places; Notification of Pending Nominations and Related Actions

Nominations for the following properties being considered for listing or related actions in the National Register were received by the National Park Service before March 23, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 30, 2013. Before including your address, phone number, email address, or other personal identifying information in your comment, you should be aware that your entire comment—including your personal identifying information—may be made publicly available at any time. While you can ask us in your comment to withhold your personal identifying information from public review, we cannot guarantee that we will be able to do so.

Dated: March 28, 2013.
J. Paul Loether,
Chief, National Register of Historic Places/National Historic Landmarks Program.

GEORGIA

Fulton County

696 Peachtree Street Apartments, 826 Peachtree St., Atlanta, 13000240

McDuffie County

Lazenby, John Moore, House, 1353 Cedar Rock Rd., Thomason, 13000241

IOWA

Linn County

Oak Hill Cemetery Historic District, Roughly bounded by Mt. Vernon Rd., SE., 15th St., SE., S. & E. lot lines, Cedar Rapids, 13000243

Sumner School, 877 W. Mount Vernon Rd., Mount Vernon, 13000242

NEW YORK

Ulster County

Schoonmaker, Joachim, Farm, (Rochester MPS), 41 Garden Ln., Accord, 13000244

NORTH CAROLINA

Buncombe County

Barrett, Dr. John G. & Nannie H., Farm, 75 Ox Creek Rd., Weaverville, 13000245

Caldwell County

Lenoir Downtown Historic District (Boundary Increase), 915-1011 West Ave. & 122 Boundary St., Lenoir, 13000246

Macon County

Salem Methodist Church, (Macon County MPS), 1201 River Rd., Franklin, 13000247

PENNSYLVANIA

Allegheny County

Firstside Historic District (Boundary Increase), Roughly bounded by the Boulevard of the Allies, Ft. Pitt Blvd., Grant & Stanwix Sts., Pittsburgh, 13000248

Fourth Avenue Historic District (Boundary Increase), Roughly bounded by Smithfield St., Market Square Pl., 3rd & 5th Aves., Pittsburgh, 13000249

Penn-Liberty Historic District (Boundary Increase), Roughly bounded by Liberty Ave., Fort Duquesne Blvd., Stanwix, 9th, French & 10th Sts., Pittsburgh, 13000250

Pittsburgh Central Downtown Historic District (Boundary Increase), Roughly bounded by 4th, 6th, 7th & Liberty Aves., former PRR tracks, Grant & Wood Sts., Pittsburgh, 13000251

Pittsburgh Renaissance Historic District, Roughly bounded by Stanwix St., Allegheny, Monongahela & Ohio Rivers., Pittsburgh, 13000252

Pittsburgh Terminal Warehouse and Transfer Company, 333-400 E. Carson St., Pittsburgh, 13000253

Wilson, August, House, 1727 Bedford Ave., Pittsburgh, 13000254

Delaware County

Idlewild, 110 Idlewild Ln. (Upper Providence Township), Media, 13000255

Lancaster County

Mascot Roller Mills (Boundary Increase), Jct. of Newport & Stumptown Rds. (Upper Leacock Township), Mascot, 13000256

Philadelphia County

Frazier's, Joe, Gym, 2917 N. Broad St., Philadelphia, 13000257

Wilde, John and Brother, Inc., 3737 Main St., Philadelphia, 13000258

VIRGINIA

Richmond (Independent City)

Cannon, Henry Mansfield, Memorial Chapel, (University of Richmond MPS), 36 Westhampton Way, Richmond (Independent City), 13000259

North Court, (University of Richmond MPS), 40 Westhampton Way, Richmond (Independent City), 13000260

Ryland Hall, (University of Richmond MPS), 2 Ryland Cir., Richmond (Independent City), 13000261

WEST VIRGINIA

Cabell County

Morris Memorial Hospital for Crippled Children, Morris Memorial Rd. between James River Tpk. & US 60, Milton, 13000262

Marion County

Miller, Thomas C., Public School, 2 Pennsylvania Ave., Fairmont, 13000263

Preston County

Brookside Historic District, George Washington Hwy. near Cathedral State Park, Aurora, 13000264

WYOMING

Albany County

Snow Train Rolling Stock, S. 1st & E. Sheridan Sts., Laramie, 13000265

Sheridan County

St. Peter's Episcopal Church, 1 S. Tschirgi, Sheridan, 13000266

[FR Doc. 2013-08720 Filed 4-12-13; 8:45 am]

BILLING CODE 4312-51-P